DEPARTMENT OF EDUCATION

National Institute on Disability and Rehabilitation Research—Disability and Rehabilitation Research Projects and Centers Program—Disability Rehabilitation Research Projects (DRRPs), Rehabilitation Research and Training Centers (RRTCs), and Rehabilitation Engineering Research Centers (RERCs)

AGENCY: Office of Special Education and Rehabilitative Services (OSERS), Department of Education.

ACTION: Notice of final priorities for DRRPs, RRTCs, and RERCs.

SUMMARY: The Assistant Secretary for Special Education and Rehabilitative Services announces certain funding priorities for the Disability and Rehabilitation Research Projects and Centers Program administered by the National Institute on Disability and Rehabilitation Research (NIDRR). Specifically, this notice announces nine priorities for DRRPs, five priorities for RRTCs, and six priorities for RERCs. The Assistant Secretary may use these priorities for competitions in fiscal year (FY) 2008 and later years. We take this action to focus research attention on areas of national need. We intend these priorities to improve rehabilitation services and outcomes for individuals with disabilities.

DATES: Effective Date: These priorities are effective March 3, 2008.

FOR FURTHER INFORMATION CONTACT: Donna Nangle, U.S. Department of Education, 400 Maryland Avenue, SW., room 6029, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: We published a notice of proposed priorities (NPP) for NIDRR's Disability and Rehabilitation Research Projects and Centers Program in the Federal Register on August 31, 2007 (72 FR 50516). The NPP included a background statement that described our rationale for each priority proposed in that notice.

In this notice, we are announcing nine priorities for DRRPs, five priorities for RRTCs, and six priorities for RERCs.

For DRRPs, the final priorities are:

• Priority 1—Health Care Coordination for Individuals With Physical Disabilities.

• Priority 2—Health and Health Care Disparities Among Individuals With Disabilities.

• Priority 3—Traumatic Brain Injury Model Systems (TBIMS) Centers Collaborative Research Projects.

• Priority 4—Classification and Measurement of Medical Rehabilitation Interventions.

• Priority 5—Vocational Rehabilitation Service Models for Individuals With Autism Spectrum Disorders.

• Priority 6—Center on Knowledge Translation for Technology Transfer.

• Priority 7—Asset Accumulation and Economic Self-Sufficiency for Individuals With Disabilities.

• Priority 8—Technology Access in Resource-Limited Environments.

• Priority 9—Research and Knowledge Translation Center for Individuals With Disabilities and Their Families.

For RRTCs, the final priorities are:

• Priority 10—General Rehabilitation Research and Training Center (RRTC) Requirements.

• Priority 11—Personal Assistance Services (PAS) in the 21st Century.

• Priority 12—Disability Statistics and Demographics.

• Priority 13—Health and Function Across the Lifespan of Individuals With Intellectual and Developmental Disabilities.

• Priority 14—Community Living and Employment for Individuals With Intellectual and Developmental Disabilities.

For RERCs, the final priorities are:

• Priority 15—RERC for Hearing Enhancement.

• Priority 16—RERC for Accessible Public Transportation.

• Priority 17—RERC for Prosthetics and Orthotics.

• Priority 18—RERC for Communication Enhancement.

• Priority 19—RERC for Universal Interface and Information Technology Access.

• Priority 20—RERC for Wheeled Mobility.

The Department is not finalizing certain priorities that were proposed in the NPP; we identify those priorities in the Analysis of Comments and Changes section of this notice of final priorities (NFP). The Department intends to revisit some of the priorities not being finalized in this NFP and to publish revised versions of those priorities in one or more separate notices of proposed priorities.

There are also other differences between the NPP and this NFP. Specifically, we have made changes to the following priorities: Priority 3—Traumatic Brain Injury Model Systems (TBIMS) Centers Collaborative Research Projects (Proposed Priority 4 in the NPP); Priority 6—Center on Knowledge Translation for Technology Transfer (Proposed Priority 7—Center on Knowledge Translation for Assistive Technology Transfer in the NPP); Priority 8—Technology Access in Resource-Limited Environments (Proposed Priority 9—Technology Transfer in Resource-Limited Environments in the NPP); Priority 9—Research and Knowledge Translation Center for Individuals With Disabilities and Their Families (Proposed Priority 10 in the NPP); Priority 10—General Rehabilitation Research and Training Center (RRTC) Requirements (Proposed Priority 11 in the NPP); Priority 11—Personal Assistance Services (PAS) in the 21st Century (Proposed Priority 15 in the NPP); Priority 14—Community Living and Employment for Individuals With Intellectual and Developmental Disabilities (Proposed Priority 21—Participation and Community Living for Individuals With Intellectual and Developmental Disabilities in the NPP); and Priority 15—RERC for Hearing Enhancement (Proposed Priority 22 in the NPP).

Analysis of Comments and Changes

In response to our invitation in the NPP, 90 parties submitted comments on the proposed priorities that are announced in this NFP.

An analysis of the comments and the changes in the priorities since the publication of the NPP follows. We discuss substantive issues under the priorities to which they pertain.

Generally, we do not address technical and other minor changes, or suggested changes the law does not authorize us to make under the applicable statutory authority. In addition, we do not address general comments that raised concerns not directly related to the proposed priorities.

Proposed Priority 2—Assistive Technology Reuse; Proposed Priority 12—Enhancing the Health and Wellness of Individuals With Neuromuscular Diseases; and Proposed Priority 13—Enhancing the Health and Wellness of Individuals With Arthritis

Comments: None.

Discussion: In order to make NIDRR's resources available for work that builds strategically on new initiatives and priorities in OSERS and the Department, NIDRR has decided not to finalize Proposed Priority 2—Assistive Technology Reuse; Proposed Priority 12—Enhancing the Health and Wellness of Individuals With Neuromuscular Diseases; and Proposed Priority 13—Enhancing the Health and Wellness of Individuals With Arthritis.

Changes: We are not including the following proposed priorities in this notice: Proposed Priority 2—Assistive Technology Reuse, Proposed Priority 12—Enhancing the Health and Wellness of Individuals With Neuromuscular Diseases, and Proposed Priority 13—Enhancing the Health and Wellness of Individuals With Arthritis.

Proposed Priority 14—Stroke Rehabilitation; Proposed Priority 16—Participation and Community Living for Individuals With Psychiatric Disabilities; Proposed Priority 17—Multiple Sclerosis: Interventions to Maximize Health, Well Being, and Participation; and Proposed Priority 18—Aging With Physical Disability: Reducing Secondary Conditions and Enhancing Health and Participation

Comment: We received seven comments seeking clarification on terms used in proposed priorities 14, 16, 17, and 18.

Discussion: NIDRR appreciates the feedback provided by commenters regarding these priorities; however, we have decided not to finalize these priorities at this time. Instead, we intend to revisit these five priorities and to publish one or more new notices proposing revised versions of them. The Department takes this action to better align the priorities with other work being done by OSERS. Specifically, we intend to revise these priorities to focus on outcomes related to employment and vocational rehabilitation services. A focus on employment and vocational rehabilitation services outcomes is consistent with the work being done by other programs within OSERS.

Changes: We are not including the following proposed priorities in this notice: Proposed Priority 14—Stroke Rehabilitation; Proposed Priority 16—Participation and Community Living for Individuals With Psychiatric Disabilities; Proposed Priority 17—Multiple Sclerosis: Interventions to Maximize Health, Well Being, and Participation; and Proposed Priority 18—Aging With Physical Disability: Reducing Secondary Conditions and Enhancing Health and Participation.

DRRPs

Priority 3—Traumatic Brain Injury Model Systems (TBIMS) Centers Collaborative Research Projects (Proposed Priority 4)

Comment: One commenter asked whether a study funded under this priority could include individuals with traumatic brain injury (TBI) as well as individuals with non-traumatic brain injury. The commenter noted that, while some study topics are appropriately organized along medical diagnostic boundaries, there are other topics where the problems of individuals with traumatic and non-traumatic brain injuries substantially overlap and where the “active ingredients” of an intervention would not be expected to vary with the etiology of the damage.

Discussion: If the proposed study is conducted for the purpose of improving the lives of persons with TBI, then the enrollment of a sample of subjects with mixed etiologies (i.e., individuals with traumatic brain injuries and individuals with non-traumatic brain injuries) in that study is permissible. Nothing in this priority prohibits an applicant from proposing a study that includes both individuals with traumatic brain injuries and individuals with non-traumatic brain injuries. The peer review process will evaluate the merits of the proposals received under this priority.

Changes: None.

Comment: None.

Discussion: Upon further review of this priority, NIDRR determined that it is appropriate to identify the types of service providers to whom research results must be disseminated. NIDRR believes that it is particularly important to disseminate the results of the research conducted under this priority to vocational rehabilitation and independent living service providers described in Titles I and VII of the Rehabilitation Act of 1973, as amended. At least five million individuals in the United States live with significant disabilities due to TBI. A large percentage of these individuals do not return to their pre-injury vocational or community roles. The results of the research sponsored under this priority have the potential to be of great utility to providers of vocational rehabilitation and independent living services who serve individuals with TBI. Thus, NIDRR decided to identify these types of service providers as examples of audiences to whom the research results must be disseminated.

Changes: We have added vocational rehabilitation and independent living service providers as specific audiences to receive dissemination materials that result from the research carried out under this priority.

Priority 4—Classification and Measurement of Medical Rehabilitation Interventions (Proposed Priority 5)

Comment: One commenter suggested that paragraph (a) of this priority be amended to list music therapists as a specific example of “other allied health professionals.”

Discussion: The priority includes the primary allied health professionals (physical therapists, occupational therapists, and speech language pathologists) involved in rehabilitation interventions. We referred to “other allied health professionals” in this priority to acknowledge that there are a number of other health professionals that provide rehabilitation interventions and to allow applicants to propose research that reflects the breadth of clinical expertise that is involved in the practice of medical rehabilitation. Applicants may propose research that includes development of methods for the classification of music therapy interventions under this priority. However, NIDRR does not find it necessary to include music therapists as a specific example of “other allied health professionals.”

Changes: None.

Priority 6—Center on Knowledge Translation for Technology Transfer (Proposed Priority 7)

Comment: None.

Discussion: NIDRR decided, upon review of the proposed priority, that limiting the activities of this priority to assistive technology was too restrictive because it would not allow applicants to focus on the range of technology developed by NIDRR funding.

Changes: The priority title has been changed to “Center on Knowledge Translation for Technology Transfer.”

Comment: None.

Discussion: Upon further review of this priority, NIDRR has determined that the list of technology areas specified in the second paragraph is not fully inclusive of all technology areas covered by NIDRR's research portfolio, and that it, therefore, should not be a basis for limiting the scope of original research carried out by the Center.

Changes: We have revised the second paragraph of the priority by deleting the brief list of technology areas. We have clarified the language to indicate that the Center's original research and development must concentrate on no more than three technology areas that are the focus of current NIDRR technology grantees. Information on technology research funded by NIDRR can be found at http://www.naric.com/research/pd/priority.cfm. Each applicant must define and justify its focus. The peer review panel will evaluate the merits of each proposal under this priority.

Comment: One commenter noted that requiring a grantee under this priority to focus on no more than three technology areas limits the usefulness of the Center. With this restriction, the commenter argued, the grantee would not be able to provide training and technical assistance to RERCs and other technology-related NIDRR grantees whose research and development activities fall outside of the selected technology areas.

Two other commenters expressed a concern that, by focusing only on technology produced with NIDRR resources, this priority lacked a broad approach to transferring technology for use by people with disabilities.

Discussion: NIDRR believes that limiting the Center's original research and development activities under this priority to specific technology areas that are the focus of current NIDRR-technology grantees is appropriate and that this limitation does not diminish the usefulness of the Center. Information on technology research funded by NIDRR can be found at http://www.naric.com/research/pd/priority.cfm.

The purpose of this priority is three-fold: (1) Identifying and compiling existing information on how the results of scientifically based research can be used to develop and improve technology for persons with disabilities (pursuant to paragraphs (a)(1) and (b)(1) of the priority), (2) conducting research and development in a limited number of specific technology areas (pursuant to paragraphs (a)(2), (b)(2), and (b)(3) of the priority), and (3) providing training and technical assistance to NIDRR-funded technology grantees to help them enhance their technology transfer activities.

The limitation on how many technology areas on which a Center may focus only applies to its original research and development. We believe this limitation helps ensure the feasibility and quality of the proposed projects and increases the likelihood of achieving planned outcomes by ensuring that funding is not spread across too many projects. NIDRR understands that the findings from the Center's original research may not be applicable to the work of all NIDRR-funded technology grantees. However, we believe that the Center's compilation of existing research on the knowledge translation for technology transfer will enable it to provide all of NIDRR's research grantees with technical assistance on knowledge translation for technology transfer more generally.

In response to the two commenters' concerns about the priority's limited approach to transferring technology for individuals with disabilities, we acknowledge that the training and technical assistance components of this priority are designed to assist current NIDRR technology grantees with their technology transfer activities. NIDRR believes that it is critical to ensure that the results of its investment in technology are transferred to practitioners and ultimately to the individuals with disabilities who can benefit from these technological developments.

Changes: NIDRR has revised the second paragraph of the priority to clarify that the limit on technology areas only applies to the original research and development conducted by the Center. In addition, we have revised this paragraph to clarify that NIDRR intends that the information identified and collected by the Center in accordance with paragraphs (a)(1) and (b)(1) of the priority will serve as a knowledge base for the training and technical assistance to be provided to NIDRR technology grantees.

Comment: Two commenters suggested that paragraph (c) of the priority should be clarified to articulate the role of NIDRR-funded technology grantees who are to receive the training and technical assistance provided by the Center, including RERCs that will be funded in FY 2008. These commenters expressed concern that the Center would not be able to ensure the outcome of increased utilization of validated best practices pursuant to paragraph (c) of the priority if NIDRR-funded technology grantees are not required to receive and implement the training and technical assistance offered by the Center.

Discussion: According to the priority, the Center must contribute to—not ensure—the outcome of increased utilization of validated best practices for knowledge translation for technology transfer. Toward that end, this priority describes the training and technical assistance that must be provided by the Center. The priority cannot specify the role or requirements of previously funded NIDRR technology grantees. To promote the training and technical assistance provided by the Center, NIDRR will facilitate and coordinate effective collaborative relationships between the Center and NIDRR-funded technology grantees through its project monitoring efforts.

Changes: None.

Priority 7—Asset Accumulation and Economic Self-Sufficiency for Individuals With Disabilities (Proposed Priority 8)

Comment: One commenter recommended that projects funded under this priority be required to use Federal demonstration authority to develop and field test methods and procedures that produce sustainable “transformational reforms” within Federal and State policies and program rules.

Discussion: We assume that by “Federal demonstration authority” the commenter is referring to the authority under the Rehabilitation Act of 1973, as amended, for the DRRPs to conduct demonstration projects. The DRRP mechanism under which this priority is authorized (see section 204(a) of the Rehabilitation Act of 1973, as amended (29 U.S.C. 764(a)) enables grantees to conduct demonstrations to maximize the economic and social self-sufficiency of individuals with disabilities. Under this priority, an applicant could propose to conduct demonstrations to develop and field-test methods for producing sustainable changes to Federal and State policies and program rules that impact the economic self-sufficiency of individuals with disabilities. NIDRR does not have a sufficient basis for requiring that all applicants propose such demonstrations or methods. The peer review panel will evaluate the merits of each proposal under this priority.

Changes: None.

Comment: One commenter recommended that the DRRP under this priority be required to focus exclusively on increasing the understanding of the differences of how disability-specific policies, on the one hand, and general policies, on the other hand, differ in addressing asset accumulation and economic self-sufficiency issues, and changes in systems that are needed to overcome barriers to savings and asset building for individuals with disabilities.

Discussion: Under this priority, an applicant could focus on increasing the understanding of the differences between disability-specific and generic policies and changes in systems that are needed to overcome barriers to savings and asset building for individuals with disabilities. Nothing in the priority precludes an applicant from proposing to focus on these types of systems-level analyses. However, the DRRP funded under this priority also must generate new knowledge about individual-level characteristics that may affect savings and asset accumulation, as described in paragraph (a) of the priority. Accordingly, if an applicant chooses to focus on the type of systems-level analysis suggested by the commenter, it must also design its project to generate new knowledge about individual-level characteristics.

Changes: None.

Comment: Three commenters recommended that the DRRP funded under this priority be required to provide to the disability community continuously-updated information on relevant State and Federal policy changes related to asset accumulation and economic self-sufficiency.

Discussion: Within the framework of this priority, an applicant could propose to provide to the disability community continuously-updated information on relevant State and Federal policy changes. Nothing in the priority precludes an applicant from proposing to provide this type of service. The peer review panel will evaluate the merits of the proposals received under this priority.

Changes: None.

Comment: One commenter suggested that the DRRP funded under this priority develop partnerships with the Social Security Administration and the Department of Labor to promote cross-agency data collection efforts.

Discussion: Under this priority, an applicant could propose that the DRRP develop partnerships with the Social Security Administration and the Department of Labor to promote cross-agency data collection efforts. While nothing in the priority precludes an applicant from proposing such partnerships, NIDRR does not have a sufficient basis to require that each applicant do so. The peer review panel will evaluate the merits of the proposals received under this priority.

Changes: None.

Comment: Two commenters suggested that the DRRP funded under this priority focus on the barriers to, and facilitators of, economic self-sufficiency for individuals with disabilities with earnings over $40,000 per year.

Discussion: As described in the priority, NIDRR is interested in research that focuses on the barriers to, and facilitators of, economic self-sufficiency among low- to moderate-income individuals with disabilities. Each applicant is permitted to define the term “low- to moderate-income” in a way that reflects the needs and circumstances of the population of individuals with disabilities that the applicant is targeting. Thus, the applicant could propose a project that focuses on the barriers to, and facilitators of, economic self sufficiency for individuals with disabilities who have earnings of over $40,000 per year. However, NIDRR does not have a sufficient basis for requiring all applicants to propose such a focus. The peer review panel will evaluate the merits of each proposal under this priority.

Changes: None.

Comment: One commenter suggested that the DRRP funded under this priority examine the outcomes of individuals with disabilities who participate in tax and financial service asset building programs and that the priority be revised to decrease the emphasis on generating new knowledge about individual-level characteristics associated with savings and asset accumulation.

Discussion: NIDRR agrees that the DRRP under this priority should focus on the effect of individual participation in asset accumulation programs and has provided for such a focus under paragraph (b) of the priority. That said, in order for these asset accumulation programs to be targeted appropriately in the future, the DRRP also must generate new knowledge about individual-level characteristics associated with savings and asset accumulation, as described in paragraph (a) of the priority. Accordingly, under the priority, applicants may propose to examine the outcomes of individuals with disabilities who participate in tax and financial service asset building programs, but, if they do so, they must also design their projects to generate new knowledge about individual-level characteristics associated with savings and asset accumulation.

Changes: None.

Comment: Three commenters suggested that by limiting the number of asset accumulation interventions to be developed and tested to two in paragraph (b) of the priority, NIDRR would preclude the DRRP funded under this priority from focusing on complex interventions that include more than two strategies to promote asset accumulation.

Discussion: NIDRR has limited the number of asset accumulation interventions in this priority to help ensure the feasibility and quality of the proposed projects and to increase the likelihood of achieving planned outcomes. This pragmatic limitation does not preclude developing and testing one or two complex, well-defined interventions that include multiple asset accumulation strategies. The peer review panel will evaluate the merits of the proposals received under this priority.

Changes: None.

Priority 8—Technology Access in Resource-Limited Environments (Proposed Priority 9)

Comment: One commenter expressed concern that the term “technology transfer,” as used in this priority, is not consistent with the standard usage of that term. The commenter explained that “technology transfer” typically refers to the process of translating research into products and devices, or to the process of moving products from the prototype stage to commercialization.

Discussion: As described in the Background statement of this priority in the NPP, the purpose of this priority is to focus on the need for research to determine effective methods of designing, developing, and manufacturing low-cost, high-quality products and distributing them and providing information regarding them to individuals in resource-limited environments. In the proposed priority, the term “technology transfer” appeared only in the title of the priority. In order to avoid confusion among potential applicants and more accurately convey the purpose of this priority, NIDRR is changing the title of the priority.

Changes: NIDRR has changed the title of this priority to “Technology Access in Resource-Limited Environments.”

Comment: One commenter asked whether the term “resource-limited environments” includes urban, inner city areas in the United States (U.S.) or in developing countries.

Discussion: As used in this priority, NIDRR intends the term “resource-limited environments” to include resource-limited environments in rural areas as well as urban, inner city areas in the U.S. and in developing countries. While NIDRR is particularly interested in research to promote the effective provision of technology to individuals with disabilities engaged in agricultural occupations, nothing in this priority precludes a grantee from focusing its research on increasing access to and awareness of technology products in resource-limited urban areas in the U.S., developing countries, or both.

Changes: None.

Comment: One commenter requested clarification on whether the focus of the priority is to improve conditions for people with disabilities in the U.S. or in developing countries.

Discussion: Our intent is to permit grantees under this priority to focus on resource-limited environments in the U.S., in developing countries, or both. Paragraph (b) of the priority states that applicants can focus their proposals on improving the availability of technology for individuals with disabilities in resource-limited environments in the U.S., in developing countries, or both. We recognize that in the proposed priority, paragraph (a) stated that applicants must focus their work either in the United States or abroad. We will change this paragraph to clarify that an applicant's work may be focused on the United States, developing countries, or both.

Changes: We have revised paragraph (a) of the priority to clarify that the DRRP can focus on resource-limited environments in the U.S., in developing countries, or both.

Priority 9—Research and Knowledge Translation Center for Individuals With Disabilities and Their Families (Proposed Priority 10)

Comment: Forty commenters suggested that the DRRP funded under this priority be required to examine the needs of people with disabilities and their families relative to education, employment, income support, and cash transfer programs.

Discussion: NIDRR agrees that employment and education are critical in the lives of individuals with disabilities and their families, and that income support and cash transfer programs are relevant to many of these individuals. Nothing in the priority precludes an applicant from proposing research in these specific areas. However, NIDRR does not have a sufficient basis for requiring all applicants to focus on these areas. The peer review panel will evaluate the merits of each proposal under this priority.

Changes: None.

Comment: Forty commenters requested that the priority clarify whether the term “children,” as used in the priority, includes individuals who are 21 years old or younger. The commenters noted that the term should include those children because many individuals with disabilities are eligible for special education services through age 21.

Discussion: NIDRR agrees that the age range for the term “child” as used in this priority should be consistent with the age range in the Individuals With Disabilities Education Act (IDEA). Although the age range for special education services under IDEA differs between States, children with disabilities generally are eligible for services under IDEA through age 21.

Changes: NIDRR has revised the priority to clarify that the DRRP funded under the priority must focus on the knowledge needs of families that include a child aged 21 or younger with a disability, or an adult with a disability who is a parent of at least one child aged 21 or younger.

Comment: One commenter suggested that the DRRP funded under this priority be required to examine the needs of people with disabilities and their families who require behavioral and mental health services.

Discussion: NIDRR recognizes that behavioral and mental health programs are often important to individuals with disabilities and their families. Paragraph (a) of the priority includes a short, but not exhaustive, list of programs and service systems that may be important to the community integration and participation of individuals with disabilities and includes “a wide variety of related social support services.” Applicants could propose research to identify the experiences and needs of individuals with disabilities who need access to behavioral and mental health programs. However, NIDRR does not have a sufficient basis for requiring all applicants to do so. The peer review panel will evaluate the merits of each proposal under this priority.

Changes: None.

Comment: Forty-two commenters requested that the outcome in paragraph (b) of the priority be expanded to include work that promotes improved participation and community integration of families of individuals with disabilities—not just individuals with disabilities.

Discussion: NIDRR's mission is to generate new knowledge and promote its effective use to improve levels of community participation and integration by individuals with disabilities. Paragraph (b) of the priority requires the DRRP funded under the priority to target its training, technical assistance, and informational resources to the specific knowledge needs of individuals with disabilities and their families. The aim of providing these services to both individuals with disabilities and their families is ultimately to improve the participation and community integration of the individuals with disabilities. Efforts that focus on participation and integration of the families themselves, while a worthy undertaking, are beyond the intended scope of this priority. Therefore, NIDRR declines to expand the scope of the priority as requested by the commenters.

Changes: None.

Comment: Forty-one commenters asked that this priority be revised so that it generates research and new knowledge that are cross-disability in nature.

Discussion: We do not believe that a change is necessary because paragraph (a) of the priority specifically states that the experiences and knowledge needs of individuals with disabilities must be analyzed by condition type and severity of disability; we believe that this requirement necessitates that grantees take a cross-disability approach. To the extent that the knowledge needs determined under paragraph (a) of the priority differ by condition or severity of disability, training and technical assistance materials developed under paragraph (b) of the priority may need to be structured to meet the knowledge needs of specific subgroups of individuals with disabilities and their families. NIDRR intends for the training, technical assistance, and informational materials that are developed under this priority to be applicable to the needs of individuals with a wide range of conditions, as well as their families.

Changes: None.

Comment: One commenter noted that very little is known about the knowledge needs of people with disabilities and their families across the lifespan and across disability categories. This commenter suggested that the DRRP funded under this priority be required to focus on generating new knowledge about the information needed by individuals with disabilities and their families across the lifespan and across disability categories.

Discussion: NIDRR agrees that little is currently known about the needs of individuals with disabilities and their families across the lifespan and across disability categories. We believe that paragraph (a) of this priority addresses this knowledge gap.

Changes: None.

Comment: One commenter argued that the delivery of research-based training, technical assistance, and informational resources under paragraph (b) of the priority is not likely to be effective, given that access to information about service systems is primarily determined at the local level.

Discussion: For multiple funding cycles, NIDRR has sponsored research on the experience of children with disabilities and their families, as well as on adults with disabilities who are parents. Knowledge generated by this research is directly relevant to many of the needs of individuals with disabilities and their families as they navigate a wide variety of programs and services at the local level. While NIDRR understands that the availability of information about these programs and services varies across locales, NIDRR believes that the current knowledge base is sufficiently well developed to be relevant to individuals with disabilities and their families, regardless of their local context.

Changes: None.

Comment: Two commenters stated that the DRRP funded under this priority should address specifically the needs of parents of individuals with developmental disabilities. Another commenter recommended that the DRRP address specifically the needs of parents who have disabilities.

Discussion: Nothing in this priority precludes applicants from proposing activities that address the needs of parents of individuals with developmental disabilities. Similarly, nothing in this priority precludes applicants from proposing activities that address the needs of parents with disabilities. NIDRR does not have a sufficient basis for requiring all applicants to focus on one of these specific areas. The peer review panel will evaluate the merits of each proposal under this priority.

Changes: None.

Comment: Two commenters stated that one DRRP could not address adequately the knowledge needs of children with disabilities and their families, as well as parents with disabilities and their families.

Discussion: NIDRR agrees with these commenters' suggestion that the DRRP funded under this priority may not be able to conduct research on, and provide training and technical assistance to, both parents with disabilities as well as children with disabilities and their families.

Changes: We have revised the priority to require a focus on either families that include a child with a disability aged 21 or younger or an adult with a disability who is a parent of at least one child aged 21 or younger, but not both.

Comment: One commenter suggested that the DRRP funded under this priority be required to focus on State and Federal policies because, according to the commenter, State and Federal policies and funding are critical to assuring and supporting access to the service systems available to individuals with disabilities and their families in the U.S.

Discussion: NIDRR acknowledges that a wide variety of State and Federal policies affect the lives of individuals with disabilities and their families. Under the priority, applicants can propose research to identify the experiences and knowledge needs of individuals with disabilities relative to State and Federal policies. However, NIDRR does not have a sufficient basis for requiring all applicants to do so. The peer review panel will evaluate the merits of each proposal under this priority.

Changes: None.

Comment: One commenter suggested that the priority allow research on the needs of families with children with developmental disabilities who have aged into adulthood.

Discussion: While NIDRR recognizes the needs of adults with developmental disabilities and their families, the DRRP funded under this priority is designed to build on the base of knowledge generated by the NIDRR-funded Center on Families of Children With Disabilities and Center for Parents With Disabilities. These centers focus on children with disabilities and their families, or on parents with disabilities and their families, respectively. In order to capitalize on the knowledge generated by these centers, NIDRR wants the work of the DRRP funded under this priority to focus on one of these critical populations. A focus on adults with disabilities who are not parents is therefore beyond the intended scope of this priority.

Changes: None.

RRTCs

Priority 10—General Rehabilitation Research and Training Center (RRTC) Requirements (Proposed Priority 11 in the NPP)

Comment: None.

Discussion: NIDRR believes that it is particularly important to disseminate the results of the research conducted by RRTCs to vocational rehabilitation and independent living service providers described in Title I and Title VII of the Rehabilitation Act of 1973, as amended. Upon further review of the RRTC requirements, therefore, NIDRR determined that it was appropriate to identify these types of service providers as examples of audiences to whom the results of the RRTC's research must be disseminated.

Changes: We have added vocational rehabilitation and independent living service providers as specific audiences to receive dissemination materials that result from the research and related activities carried out by the RRTCs.

Priority 11—Personal Assistance Services (PAS) in the 21st Century (Proposed Priority 15)

Comment: None.

Discussion: Upon further review of this priority, we have determined that the priority did not sufficiently emphasize the relationship between PAS and the employment of individuals with disabilities. Accordingly, we have revised the priority to emphasize research on the relationship between PAS and employment of individuals with disabilities.

Changes: We have made minor changes throughout this priority to clarify that the grantee under this priority must examine, among other things, the use of PAS to support employment among individuals with disabilities.

Priority 14—Community Living and Employment for Individuals With Intellectual and Developmental Disabilities (Proposed Priority 21)

Comment: Fourteen commenters suggested adding a component to the priority that supports the development of personnel to provide direct supports to individuals with intellectual disabilities so they can live and work in the community.

Discussion: NIDRR recognizes the need to support research on personal assistance services and professionals who provide direct support to individuals with intellectual and developmental disabilities (ID/DD). A well-prepared and skilled workforce of direct support providers can provide much needed personalized services and support to individuals with ID/DD who seek meaningful employment and wish to participate more actively in the community. Further, research is needed to identify methods for training direct service providers so that these workers can facilitate positive educational and vocational outcomes for individuals with ID/DD. Therefore, we are revising this priority to include a component addressing the development of personnel providing support services to individuals with ID/DD.

Changes: NIDRR has added a paragraph to this priority that requires the development, evaluation, and dissemination of training materials to prepare direct support providers for individuals with ID/DD.

Comment: Two commenters requested adding an ID/DD policy research component to the priority.

Discussion: Applicants under this priority may propose research that focuses on ID/DD policies. However, NIDRR does not have a sufficient basis for requiring that all applicants focus on this particular area. The peer review panel will evaluate the merits of each proposal under this priority.

Changes: None.

Comment: One commenter suggested adding an advocacy and empowerment component to the priority.

Discussion: Applicants may propose to conduct research on advocacy and empowerment interventions under paragraph (c) of this priority. However, NIDRR does not have a sufficient basis for requiring that all applicants focus on this particular area. The peer review panel will evaluate the merits of each proposal under this priority.

Changes: None.

Comment: None.

Discussion: NIDRR wishes to highlight both access to employment and community living for individuals with disabilities in this priority. For this reason, NIDRR is changing the title and introductory paragraphs of this priority to specify that employment is a key outcome to be addressed by the interventions developed by the proposed Center.

Changes: NIDRR has changed the title of this priority to “Community Living and Employment for Individuals With Intellectual and Developmental Disabilities.” NIDRR also has added the word “employment” to the introductory paragraphs of the priority to emphasize that the RRTC funded under the priority must focus on interventions that support the employment of individuals with disabilities.

RERCs

General

Comment: Two commenters asked whether the Department has a mechanism for ensuring that RERCs comply with the NIDRR requirement that all RERCs collaborate with the Center on Knowledge Translation for Technology Transfer to develop a technology transfer plan (paragraph (6) of the RERC priorities).

Discussion: All RERCs must propose methods for collaborating with the Center on Knowledge Translation for Technology Transfer, as specified in paragraph (6) of the RERC priorities. The peer review panel will evaluate the merits of the proposals received under the RERC priorities. Once RERC awards are made, NIDRR staff will facilitate and promote collaborative relationships between the RERCs and the Center on Knowledge Translation for Technology Transfer to help ensure that this collaboration occurs.

Changes: None.

Priority 15—RERC for Hearing Enhancement (Proposed Priority 22)

Comment: One commenter stated that research is needed to improve and evaluate hearing enhancement technologies, particularly in the areas of sound suppression, compatibility standards, standards for measuring fidelity and distortion, user customization, built-in wireless receivers, hearing in noise, high frequencies in hearing aids, and designing for usability.

Discussion: NIDRR agrees that research on hearing enhancement technologies is necessary to improve outcomes for individuals with hearing loss.

Changes: NIDRR has revised the priority to include a research focus on improving the performance, usability, and accessibility of hearing enhancement technologies.

Comment: One commenter stated that research into aural rehabilitation and consumer education, including areas such as training for professionals, developing aural rehabilitation tools, and disseminating information to consumers, should be an important component of this priority.

Discussion: Nothing in the priority precludes applicants from proposing research on aural rehabilitation and consumer education. The priority specifically calls for the development and testing of innovative technologies, products, and tools, which could include aural rehabilitation tools. Likewise, nothing in the priority precludes applicants from proposing consumer education strategies, such as training, technical assistance, and dissemination methods, to address these areas. Under the priority, each RERC must target technical assistance and dissemination to a wide variety of relevant stakeholder groups, including consumers. The peer review panel will evaluate the merits of each proposal under this priority.

Changes: None.

Comment: None.

Discussion: NIDRR has determined that the term “assistive technology,” as used in the deaf and hard of hearing community, typically refers to assistive listening and alerting devices such as FM systems and flashing lights. In this priority, NIDRR intended to be more inclusive of all hearing enhancement technologies, including possible focus areas that include, but are not limited to, hearing aids and implants, as well as assistive listening and alerting devices.

Changes: NIDRR has deleted the word “assistive” from the priority, so that the phrase now reads “hearing enhancement technologies.”

Priority 17—RERC for Prosthetics and Orthotics (Proposed Priority 24)

Comment: One commenter suggested that the Prosthetics and Orthotics priority be revised to require grantees to conduct an independent evaluation of commercially available prosthetic and orthotic components.

Discussion: Nothing in the priority precludes applicants from proposing to conduct an independent evaluation of commercially available prosthetic and orthotic components. However, NIDRR does not have a sufficient basis for requiring that all applicants propose such evaluations. The peer review panel will evaluate the merits of each proposal under this priority.

Changes: None.

Comment: One commenter noted that orthotic research and development have historically received less attention than that of prosthetics. This commenter suggested that the Prosthetics and Orthotics priority be revised to require an appropriate focus on both prosthetics and orthotics.

Discussion The Prosthetics and Orthotics priority requires research and development in both disciplines. NIDRR has not prescribed a particular amount of resources that this RERC must devote to either discipline. The relative amount of focus on prosthetics and orthotics will be determined by the applicants. The peer review process will evaluate the merits of the proposals received under this priority.

Changes: None.

Priority 19—RERC for Universal Interface and Information Technology Access (Proposed Priority 26)

Comment: None.

Discussion: Upon further internal review of this priority, NIDRR noticed that we mistakenly referred to a NIDRR-funded Information Technology Technical Assistance Center. We intend for the RERC for Universal Interface and Information Technology Access to work collaboratively with the RERC on Telecommunication Access and the RERC on Mobile Wireless Technologies.

Changes: We deleted the reference to the NIDRR-funded Information Technology Technical Assistance Center from this priority.

Note: This notice does not solicit applications. In any year in which we choose to use one or more of these final priorities, we invite applications through a notice in the Federal Register. When inviting applications, we designate each priority as absolute, competitive preference, or invitational.

The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

This NFP is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) identify best strategies and programs to improve rehabilitation outcomes for underserved populations; (4) identify research gaps; (5) identify mechanisms of integrating research and practice; and (6) disseminate findings.

Priorities:

Disability and Rehabilitation Research Projects (DRRP) Program

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: research, development, demonstration, training, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the General Disability and Rehabilitation Research Projects (DRRP) Requirements priority that it published in a notice of final priorities in the Federal Register on April 28, 2006 (71 FR 25472).

Additional information on the DRRP program can be found at: http://www.ed.gov/rschstat/research/pubs/res-program.html#DRRP.

Priority 1—Health Care Coordination for Individuals With Physical Disabilities

Priority:

The Assistant Secretary for Special Education and Rehabilitative Services establishes a priority for a Disability and Rehabilitation Research Project (DRRP) on Health Care Coordination for Individuals with Disabilities. The purpose of this priority is to conduct research on the outcomes of Medicare-or Medicaid-managed health care coordination programs for individuals with disabilities. Under this priority, the DRRP must be designed to contribute to the following outcomes:

(a) New knowledge about the extent to which enrollment in health care coordination programs enhances access to health care for individuals with disabilities. The DRRP must contribute to this outcome by conducting research on, and evaluating, one or more existing Medicaid- or Medicare-funded managed health care coordination programs for individuals with disabilities.

(b) New knowledge about the health outcomes associated with participation in health care coordination programs for individuals with disabilities. The DRRP must contribute to this outcome by conducting research on, and evaluating, one or more existing Medicaid- or Medicare-funded health care coordination programs for individuals with disabilities.

(c) New knowledge about potential Medicaid or Medicare cost savings that are associated with health care coordination efforts for individuals with disabilities. The DRRP must contribute to this outcome by conducting research on, and evaluating, one or more existing Medicaid- or Medicare-funded health care coordination programs for individuals with disabilities.

In addition, the DRRP must work with the NIDRR project officer to coordinate its research efforts with the Centers for Medicare & Medicaid Services—Office of Research, Development, and Information.

Priority 2—Health and Health Care Disparities Among Individuals With Disabilities

Priority:

The Assistant Secretary for Special Education and Rehabilitative Services establishes a priority for a Disability and Rehabilitation Research Project (DRRP) on Health and Health Care Disparities Among Individuals with Disabilities. The purpose of this priority is to build a knowledge base about health care access and health outcomes among the diverse population of individuals with disabilities. Under this priority, the DRRP must be designed to contribute to the following outcomes:

(a) A foundation of available knowledge about health disparities among subpopulations of individuals with disabilities. The DRRP must contribute to this outcome by conducting a review and synthesis of existing research on health and health care access among individuals with disabilities or subgroups of individuals with disabilities. The DRRP must then use this review and synthesis to inform the subsequent research and evaluation efforts of the DRRP.

(b) New knowledge about system-level factors that are associated with the health of individuals with disabilities and their access to health care. The DRRP must contribute to this outcome by conducting research on the extent to which the health of individuals with disabilities and their access to health care are related to system-level factors that may include, but are not limited to, rural or urban status, as well as characteristics of their health care insurance or health care providers.

(c) New knowledge about the individual-level characteristics of individuals with disabilities that are associated with their health and access to health care. The DRRP must contribute to this outcome by conducting research on the extent to which the health of individuals with disabilities and their access to health care are related to their disabling condition categories (mental illness, sensory, physical, cognitive, or combinations thereof), disability severity, age, gender, race, ethnicity, socioeconomic status, education level, or other individual-level characteristics.

(d) Improved policies, programs, or interventions that promote the health and health care access among subpopulations of individuals with disabilities who are least likely to receive recommended health care services. The DRRP must contribute to this outcome by applying knowledge derived from research conducted under paragraphs (a), (b), and (c) of this priority.

In addition, the DRRP must collaborate with the Rehabilitation Research and Training Center on Health and Wellness, and other projects identified through consultation with the NIDRR project officer.

Priority 3—Traumatic Brain Injury Model Systems (TBIMS) Centers Collaborative Research Projects

Priority:

The Assistant Secretary for Special Education and Rehabilitative Services establishes a priority for Disability and Rehabilitation Research Projects (DRRPs) on Traumatic Brain Injury Model Systems (TBIMS) Collaborative Projects. Each DRRP under this priority must conduct research that contributes to evidence-based rehabilitation interventions, including, but not limited to, medical, psychological, vocational, and social interventions for the purpose of improving the lives of individuals with traumatic brain injury (TBI).

To be eligible under this priority, an applicant must be currently funded under NIDRR's TBIMS program.

Under this priority, each DRRP must be designed to contribute to the following outcomes:

(a) Increased use of the TBIMS program to conduct high-quality collaborative research. The DRRP must contribute to this outcome by collaborating with three or more of the NIDRR-funded TBIMS centers (for a minimum of four TBIMS sites).

Note: Applicants under this priority may propose to include other TBI research sites that are not participating in a NIDRR-funded TBIMS program in their collaborative research projects.

(b) Improved long-term outcomes for individuals with TBI. The DRRP must contribute to this outcome by using clearly identified research designs to conduct collaborative research on questions of significance to TBI rehabilitation. The DRRP's research must focus on one or more specific domains identified in NIDRR's Final Long-Range Plan for FY 2005-2009, including health and function, participation and community living, technology, and employment, and must be designed to ensure that the research study has appropriate research hypotheses and methods to generate reliable and valid findings.

In addition, the DRRP must address the following requirements:

• Demonstrate the capacity to carry out collaborative, multi-site research projects, including the ability to coordinate research among centers; maintain data quality; and adhere to research protocols, confidentiality requirements, and data safety requirements.

• Coordinate with the NIDRR-funded Model Systems Knowledge Translation Center to provide scientific results and information for dissemination to clinical and consumer audiences, including vocational rehabilitation and independent living service providers. (Additional information on this center can be found at http://uwctds.washington.edu/projects/msktc.asp).

Priority 4—Classification and Measurement of Medical Rehabilitation Interventions

Priority:

The Assistant Secretary for Special Education and Rehabilitative Services establishes a priority for a Disability and Rehabilitation Research Project (DRRP) on Classification and Measurement of Medical Rehabilitation Interventions. This DRRP must conduct research and development toward the creation of a taxonomy of medical rehabilitation interventions. Under this priority, the DRRP must be designed to contribute to the following outcomes:

(a) Enhanced research capacity and improved clinical practice in the field of medical rehabilitation. The DRRP must contribute to this outcome by conducting research to develop validated methods for systematically classifying the broad range of medical rehabilitation interventions delivered by rehabilitation physicians, physical therapists, occupational therapists, speech language pathologists, rehabilitation nurses, rehabilitation psychologists, and other allied health professionals.

(b) Enhanced research capacity and improved clinical practice in the field of medical rehabilitation through the application of one or more treatment theories to guide the development of a rehabilitation treatment taxonomy.

(c) Collaboration with relevant NIDRR-sponsored projects, such as the Rehabilitation Research Training Center on Measuring Rehabilitation Outcomes, and other projects as identified through consultation with the NIDRR project officer.

Priority 5—Vocational Rehabilitation Service Models for Individuals With Autism Spectrum Disorders

Priority:

The Assistant Secretary for Special Education and Rehabilitative Services establishes a priority for a Disability and Rehabilitation Research Project (DRRP) on Vocational Rehabilitation Service Models for Individuals with Autism Spectrum Disorders (ASDs). This DRRP must conduct research on vocational rehabilitation (VR) service models for individuals with ASDs that contributes to evidence-based rehabilitation interventions to improve the lives of individuals with ASDs. Under this priority, the DRRP must be designed to contribute to one or both of the following outcomes:

(a) Improved vocational and postsecondary education outcomes for individuals with ASDs. The DRRP must contribute to this outcome by developing or testing VR intervention strategies for individuals with ASDs, the measures needed to assess the effectiveness of VR intervention strategies for individuals with ASDs, or both.

(b) Improved long-term vocational and postsecondary education services for individuals with ASDs. The DRRP must contribute to this outcome by analyzing the factors affecting the organization and delivery of these services to individuals with ASDs and by recommending changes that could improve these service delivery mechanisms.

Priority 6—Center on Knowledge Translation for Technology Transfer

Priority:

The Assistant Secretary for Special Education and Rehabilitative Services establishes a priority for a Disability and Rehabilitation Research Project to serve as the Center on Knowledge Translation for Technology Transfer (Center). The Center must conduct rigorous research, development, technical assistance, dissemination, and utilization activities to increase successful knowledge translation (KT) for the transfer of assistive technology products developed by NIDRR-funded technology grantees.

The Center must partner with key stakeholders such as trade and professional associations, and relevant industry representatives and focus its original research and development activities (i.e., those activities conducted pursuant to paragraphs (a)(2), (b)(2), and (b)(3) of the priority) on no more than three technology areas that are the focus of current NIDRR technology grantees. Information on technology research funded by NIDRR can be found at http://www.naric.com/research/pd/priority.cfm. Each applicant must define and justify its focus. The Center's identification and compilation of existing research on technology transfer pursuant to paragraphs (a)(1) and (b)(1) of the priority must be designed to serve as a knowledge base for the training and technical assistance the Center must provide to NIDRR technology grantees.

Under this priority, the Center must be designed to contribute to the following outcomes:

(a) Improved understanding of barriers to, and facilitators of, successful KT for technology transfer in different industries related to NIDRR's technology portfolio. The Center must contribute to this outcome by—

(1) Identifying and compiling existing research-based knowledge about barriers to, and facilitators of, successful KT for technology transfer; and

(2) Conducting research on barriers to, and facilitators of, successful KT for technology transfer related to the technology areas on which the Center focuses.

(b) Advanced knowledge of best practices in KT for technology transfer. The Center must contribute to this outcome by—

(1) Identifying existing models, methods, or measures of KT for technology transfer in different industries related to NIDRR's technology portfolio;

(2) Further developing and testing models, methods, or measures in the technology areas on which the Center focuses; and

(3) Establishing best technology transfer practices that can be used to effectively implement and evaluate the success of technology transfer activities in the technology areas on which the Center focuses.

(c) Increased utilization of the validated best practices for KT for technology transfer. The Center must contribute to this outcome by providing training and technical assistance to NIDRR-funded technology grantees to implement and evaluate the success of such practices.

Priority 7—Asset Accumulation and Economic Self-Sufficiency for Individuals With Disabilities

Priority:

The Assistant Secretary for Special Education and Rehabilitative Services establishes a priority for a Disability and Rehabilitation Research Project (DRRP) on Asset Accumulation and Economic Self-Sufficiency for Individuals with Disabilities. This DRRP must create new research-based knowledge to promote asset accumulation among individuals with disabilities. Under this priority, the DRRP must be designed to contribute to the following outcomes:

(a) New knowledge of both the barriers to, and facilitators of, asset accumulation and economic self-sufficiency for low-to moderate-income individuals with disabilities and their families. This DRRP must contribute to this outcome by focusing on individual-level characteristics that may affect savings and asset accumulation, as well as system-level factors that include policies or programs designed to create system-level incentives or disincentives to the accumulation of assets.

(b) Improved asset accumulation outcomes and economic self-sufficiency among individuals with disabilities. The DRRP must contribute to this outcome by developing and testing no more than two interventions that capitalize on the facilitators of asset accumulation and economic self-sufficiency and address the barriers to asset accumulation described in paragraph (a) of this priority. These interventions may include tailoring existing asset accumulation interventions to the specific needs and circumstances of individuals with disabilities.

Priority 8—Technology Access in Resource-Limited Environments

Priority:

The Assistant Secretary for Special Education and Rehabilitative Services establishes a priority for a Disability and Rehabilitation Research Project (DRRP) on Technology Access in Resource-Limited Environments. Under this priority, the DRRP must be designed to contribute to the following outcomes:

(a) Increased access to, and acquisition of, high-quality, low-cost technology products by individuals with disabilities who need them. The DRRP must contribute to this outcome by conducting research to evaluate the application of various models of transferring technology products to individuals with disabilities in resource-limited environments in the United States (U.S.), developing countries, or both. The DRRP's research must examine the relationship of factors such as type of technology, delivery system options, socioeconomic conditions, and disability type, on the successful transfer of needed technologies to individuals with disabilities. NIDRR is particularly concerned about providing technology to support individuals engaged in agricultural occupations because of the significant need for assistive technologies by this population.

(b) Increased awareness by individuals with disabilities of high-quality, low-cost technology products, already developed or in development, for use in resource-limited environments. The DRRP must contribute to this outcome by conducting research on methods of providing information on available products to individuals with disabilities and their caregivers in resource-limited environments in the U.S., developing countries, or both. The DRRP's research must examine the effect of factors, such as literacy rates and the availability of print, Internet, or other communication resources, as well as socioeconomic factors and disability type, on strategies to increase awareness among individuals with disabilities in these areas.

Priority 9—Research and Knowledge Translation Center for Individuals With Disabilities and Their Families

Priority:

The Assistant Secretary for Special Education and Rehabilitative Services establishes a priority for a Disability and Rehabilitation Research Project (DRRP) to serve as the Research and Knowledge Translation Center for Individuals with Disabilities and Their Families (Center). The Center must conduct research on the experiences and knowledge needs of individuals with disabilities and their families, and translate these findings into training, technical assistance, and informational resources.

The Center must focus on the knowledge needs of families that include a child aged 21 or younger with a disability, or an adult with a disability who is a parent of at least one child aged 21 or younger.

Under this priority, the Center must be designed to contribute to the following outcomes:

(a) Increased knowledge about the experiences and information needs of individuals with disabilities and their families, and how those experiences and needs differ by variables such as condition type, severity, and age, as well as key characteristics of other family members and the overall structure of the family. The Center must contribute to this outcome by synthesizing existing research and advancing the knowledge base through the collection and analysis of data about the experiences and knowledge needs of families that include one or more individuals with a disability. Through this research and analysis, the Center must examine the extent to which the needs of individuals with disabilities and their families are being met by the programs and service systems that are critical to their community integration and participation (e.g., legal systems related to custody, adoption, and divorce; health care; long-term care; assistive technology provision programs; child care; transportation; and a wide variety of related social support services).

(b) Improved participation and community integration of individuals with disabilities. The Center must contribute to this outcome by developing, implementing, and evaluating research-based training, technical assistance, and informational resources that are targeted to the specific knowledge needs of individuals with disabilities and their families, as those needs are identified through the research activities described in paragraph (a) of this priority, or other research-based knowledge.

In addition, the Center must coordinate with relevant NIDRR Knowledge Translation grantees to develop and implement a method for identifying high-quality, research-based information for dissemination to individuals with disabilities and their families.

Rehabilitation Research and Training Centers (RRTCs)

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Priority 10—General Rehabilitation Research and Training Center (RRTC) Requirements

Priority:

To meet this priority, the RRTC must—

(a) Conduct a state-of-the-science conference on its respective area of research by the fourth year of the grant cycle and publish a comprehensive report on the final outcomes of the conference by the end of the fourth year of the grant cycle. This conference must include materials from experts internal and external to the RRTC;

(b) Coordinate on research projects of mutual interest with relevant NIDRR-funded projects, as identified through consultation with the NIDRR project officer;

(c) Involve individuals with disabilities in planning and implementing its research, training, and dissemination activities, and in evaluating the RRTC; and

(d) Coordinate with the appropriate NIDRR-funded Knowledge Translation Centers and professional and consumer organizations, to disseminate scientific results and information to policymakers, service providers, researchers, and others, including vocational rehabilitation and independent living center providers.

Priority 11—Personal Assistance Services (PAS) in the 21st Century

Priority:

The Assistant Secretary for Special Education and Rehabilitative Services establishes a priority for a Rehabilitation Research and Training Center (RRTC) on Personal Assistance Services (PAS) in the 21st Century. This RRTC must conduct rigorous research, develop interventions, and provide training that address future demands for PAS and caregiving. Under this priority, the RRTC must be designed to contribute to the following outcomes:

(a) Improved access to PAS by individuals with disabilities. The RRTC must contribute to this outcome by: (1) analyzing and describing trends and needs of the population of PAS consumers, including individuals with disabilities who require PAS in the workplace; (2) identifying gaps in programs and services; (3) developing effective evidence-based interventions to address unmet needs for PAS; and (4) proposing strategies to coordinate and secure PAS services during national or regional emergencies.

(b) A larger and better prepared paid and unpaid PAS workforce to support individuals with disabilities, including those who are employed or seeking employment. The RRTC must contribute to this outcome by: (1) Developing tools and supports for unpaid caregivers that reflect the changing needs of caregivers as they age; (2) developing strategies that lead to a PAS workforce that is geographically diverse and that maximizes workforce recruitment, retention, compensation and benefits, professional training, development, and networking; and (3) identifying and evaluating interventions and labor resources, such as job training services, that help to improve workforce capacity of PAS providers.

(c) An understanding of the complexity of the economics of PAS. The RRTC must contribute to this outcome by: (1) Analyzing the interrelationships among employment, employment supports, the use of technologies, and PAS; and (2) analyzing the role of tax laws that affect reimbursement for PAS.

Priority 12—Disability Statistics and Demographics

Priority:

The Assistant Secretary for Special Education and Rehabilitative Services establishes a priority for a Rehabilitation Research and Training Center (RRTC) on Disability Statistics and Demographics. This RRTC must conduct rigorous research, knowledge translation, training, dissemination, and technical assistance that advance the use of rigorous disability statistics and demographics to inform disability policy and service provision. Under this priority, the RRTC must be designed to contribute to the following outcomes:

(a) Rigorous and timely demographic research to inform the development of disability policies and programs. The RRTC must contribute to this outcome by: (1) Producing meta-analyses of national, State, and administrative data that address critical program and service needs; and (2) providing statistical consultation, including specialized analyses, to facilitate the use of survey and administrative data by policymakers and others.

(b) Improved disability data and statistics. The RRTC must conduct research about methodologies that advance the practice for (1) conducting surveys of individuals with disabilities, including individuals with low-prevalence disabilities; (2) analyzing data about low-incidence populations of individuals with disabilities; and (3) other issues related to survey or administrative data.

(c) Effective use of disability statistics and demographic information. The RRTC must contribute to this outcome by: (1) Serving as a resource on disability statistics and demographics for Federal and other government agencies, policymakers, consumers, advocates, researchers, and others; and (2) transferring research findings to Federal and other government agencies, policymakers, consumers, advocates, researchers, and others to enhance planning, policymaking, program administration, and delivery of services to individuals with disabilities.

Priority 13—Health and Function Across the Lifespan of Individuals With Intellectual and Developmental Disabilities

Priority:

The Assistant Secretary for Special Education and Rehabilitative Services establishes a priority for a Rehabilitation Research and Training Center (RRTC) on Health and Function Across the Lifespan of Individuals with Intellectual and Developmental Disabilities (ID/DD). This RRTC must focus on rigorous research, training, technical assistance, and dissemination of strategies and interventions that improve the health and function of individuals with ID/DD, and access to community-based health and social services by individuals with ID/DD. The research conducted by this RRTC also must focus on promoting family and caregiver supports that enable individuals with ID/DD to receive long-term care.

When applying for a grant under this priority, an applicant must identify, in its application, the target population from the diverse population of individuals with ID/DD to be served by the proposed research and describe how the proposed research will benefit this group.

Under this priority, the RRTC must be designed to contribute to the following outcomes:

(a) Conceptually-sound theories and methodologies for research on community-based rehabilitation and health and social service provision, including research on long-term care or care provided by family members to individuals with ID/DD. The RRTC must contribute to this outcome by investigating existing theories that may help organize or frame research on ID/DD, including theories from fields such as long-term care, or frameworks related to delivery of rehabilitation or health services in the community.

(b) Improved instruments and measures that evaluate the suitability and quality of personal assistance services, and the effectiveness and efficiency of community-based health and social services for individuals with ID/DD. The RRTC must contribute to this outcome by assessing current measures and instruments, reporting on their validity and reliability, and then developing and testing improved measures.

(c) Improved rehabilitation or community-based interventions that demonstrate measurable reductions in barriers to access to and utilization of community-based services or community-based interventions that otherwise contribute to improved health and function of individuals with ID/DD. The RRTC must contribute to this outcome by identifying and testing potential interventions and providing a thorough assessment of the basis on which these interventions were selected, including any preliminary evidence of their usefulness and relevance to individuals with ID/DD and their families.

Priority 14—Community Living and Employment for Individuals With Intellectual and Developmental Disabilities

Priorities:

The Assistant Secretary for Special Education and Rehabilitative Services establishes a priority for a Rehabilitation Research and Training Center (RRTC) for Community Living and Employment for Individuals with Intellectual and Developmental Disabilities (ID/DD). The RRTC must focus on rigorous research, training, technical assistance, and dissemination to enhance inclusion and self-determination of individuals with ID/DD. This RRTC also must focus on developing interventions that support self-determination, informed choice, consumer control, employment, family involvement, and participation and community living of individuals with ID/DD.

When applying for a grant under this priority, an applicant must identify, in its application, the target population of interest from the diverse population of individuals with ID/DD to be served by the proposed research and describe how the proposed research will benefit this group.

Under this priority, the RRTC must be designed to contribute to the following outcomes:

(a) Improved concepts and theories of societal participation and community living, and self-determination to guide the study of the needs and abilities of individuals with ID/DD. The RRTC must contribute to this outcome by investigating existing theories of societal participation, community living, and self-determination to frame research on these topics for individuals with ID/DD.

(b) Improved instruments and measures of participation and community living to assess the type, frequency, and quality of activities that individuals with ID/DD wish to engage in, or are able to engage in, outside the home or residential facility. The RRTC must contribute to this outcome by assessing current measures and instruments used to determine outcomes in the areas of access to community facilities, social participation, self advocacy, employment choice, and housing selection by individuals with ID/DD; reporting on the validity and reliability of these measures; and then developing and testing improved measures, as needed.

(c) Improved rehabilitation or community-based interventions that demonstrate a measurable impact in areas such as access to communal facilities and events, social participation and interaction with members of the community, self-advocacy, employment, and housing choices. The RRTC must contribute to this outcome by identifying and testing potential interventions for individuals with ID/DD, providing a thorough assessment of the basis on which these interventions were selected, and identifying any preliminary evidence of their usefulness and relevance to individuals with ID/DD and their families.

(d) Improved personal assistance services and direct support for individuals with ID/DD living in the community, including services and supports in educational, vocational training, and employment settings. The RRTC must contribute to this outcome by developing, evaluating, and disseminating training modules or programs that are intended to prepare direct support providers for individuals with ID/DD.

Rehabilitation Engineering Research Centers Program (RERCs)

Purpose of Program: The purpose of the RERC program is to improve the effectiveness of services authorized under the Rehabilitation Act of 1973, as amended, by conducting advanced engineering research and development on innovative technologies that are designed to solve particular rehabilitation problems, or remove environmental barriers. RERCs also demonstrate and evaluate such technologies, facilitate service delivery system changes, stimulate the production and distribution of new technologies and equipment in the private sector, and provide training opportunities.

General Requirements of RERCs

RERCs carry out research or demonstration activities in support of the Rehabilitation Act of 1973, as amended, by—

• Developing and disseminating innovative methods of applying advanced technology, scientific achievement, and psychological and social knowledge to: (a) Solve rehabilitation problems and remove environmental barriers; and (b) study and evaluate new or emerging technologies, products, or environments and their effectiveness and benefits; or

• Demonstrating and disseminating: (a) innovative models for the delivery of cost-effective rehabilitation technology services to rural and urban areas; and (b) other scientific research to assist in meeting the employment and independent living needs of individuals with severe disabilities; and

• Facilitating service delivery systems change through: (a) The development, evaluation, and dissemination of innovative consumer-responsive and individual- and family-centered models for the delivery to both rural and urban areas of innovative cost-effective rehabilitation technology services; and (b) other scientific research to assist in meeting the employment and independence needs of individuals with severe disabilities.

Each RERC must be operated by, or in collaboration with, one or more institutions of higher education or one or more nonprofit organizations.

Each RERC must provide training opportunities, in conjunction with institutions of higher education or nonprofit organizations, to assist individuals, including individuals with disabilities, to become rehabilitation technology researchers and practitioners.

Additional information on the RERC program can be found at: http://www.ed.gov/rschstat/research/pubs/index.html.

Priorities 15, 16, 17, 18, 19, and 20—Rehabilitation Engineering Research Centers (RERCs) for Hearing Enhancement (Priority 15), Accessible Public Transportation (Priority 16), Prosthetics and Orthotics (Priority 17), Communication Enhancement (Priority 18), Universal Interface and Information Technology Access (Priority 19), and Wheeled Mobility (Priority 20)

Priorities:

The Assistant Secretary for Special Education and Rehabilitative Services establishes the following priorities for (a) an RERC for Hearing Enhancement (priority 15); (b) an RERC for Accessible Public Transportation (priority 16); (c) an RERC for Prosthetics and Orthotics (priority 17); (d) an RERC for Communication Enhancement (priority 18); (e) an RERC for Universal Interface and Information Technology Access (priority 19); and (f) an RERC for Wheeled Mobility (priority 20). Within its designated priority research area, each RERC will focus on innovative technologies, new knowledge, and concepts that will improve the lives of individuals with disabilities.

(a) RERC for Hearing Enhancement (Priority 15). Under this priority, the RERC must research and develop methods, systems, and technologies that will: (1) Improve the performance, usability, and accessibility of hearing enhancement technologies (e.g., hearing aids, ear molds, assistive devices, implants); and (2) assist hearing professionals with the process of matching hearing enhancement technologies to individuals with hearing loss and associated conditions such as tinnitus. This includes improving the compatibility of hearing enhancement technologies with various environments such as school, work, recreation, and social settings.

(b) RERC for Accessible Public Transportation (Priority 16). Under this priority, the RERC must research and develop methods, systems, and devices that will promote and enhance the ability of individuals with disabilities to safely, comfortably, and efficiently identify destination information, board and disembark, and use services and facilities on various types of public transportation systems such as buses, passenger trains, and airplanes. This RERC must emphasize the principles of universal design in its product research and development.

(c) RERC for Prosthetics and Orthotics (Priority 17). Under this priority, the RERC must increase the understanding of the scientific and engineering principles pertaining to human locomotion, reaching, grasping, and manipulation, and incorporate those principles into the design and fitting of prosthetic and orthotic devices.

(d) RERC for Communication Enhancement (Priority 18). Under this priority, the RERC must research and develop augmentative and alternative communication technologies and strategies that will enhance the communicative capacity of individuals of all ages with significant communication disorders across environments (i.e., education, employment, recreation, social environments).

(e) RERC for Universal Interface and Information Technology Access (Priority 19). Under this priority, the RERC must research and develop innovative technological solutions for, and promote universal access to, current and emerging information technologies and technology interfaces that promote a seamless integration of the multiple technologies used by individuals with disabilities in the home, community, and workplace. This RERC must work collaboratively with the RERC on Telecommunication Access, and the RERC on Mobile Wireless Technologies.

(f) RERC for Wheeled Mobility (Priority 20). Under this priority, the RERC must research and develop innovative technologies and strategies that will improve the current state of the science, design standards, and usability of wheeled mobility devices and wheelchair seating systems.

Under each priority, the RERC must be designed to contribute to the following outcomes:

(1) Increased technical and scientific knowledge relevant to its designated priority research area. The RERC must contribute to this outcome by conducting high-quality, rigorous research and development projects.

(2) Innovative technologies, products, environments, performance guidelines, and monitoring and assessment tools as applicable to its designated priority research area. The RERC must contribute to this outcome through the development and testing of these innovations.

(3) Improved research capacity in its designated priority research area. The RERC must contribute to this outcome by collaborating with the relevant industry and professional associations, and institutions of higher education.

(4) Improved focus on cutting edge developments in technologies within its designated priority research area. The RERC must contribute to this outcome by identifying and communicating with NIDRR and the field regarding trends and evolving product concepts related to its designated priority research area.

(5) Increased impact of research in the designated priority research area. The RERC must contribute to this outcome by providing technical assistance to public and private organizations, individuals with disabilities, and employers on policies, guidelines, and standards related to its designated priority research area.

(6) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Design, build, and test prototype devices and assist in the transfer of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research (NCDDR) (http://www.ncddr.org), a plan to disseminate its research results to individuals with disabilities, their representatives, disability organizations, employers, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of Potential Costs and Benefits

The benefits of the Disability and Rehabilitation Research Projects and Centers Programs have been well established over the years in that similar projects have been completed successfully. These final priorities will generate new knowledge and technologies through research, development, dissemination, utilization, and technical assistance projects.

Another benefit of these final priorities is that the establishment of new DRRPs, new RRTCs, and new RERCs will support the President's NFI and will improve the lives of individuals with disabilities. The new DRRPs, RRTCs, and RERCs will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects, 84.133B Rehabilitation Research and Training Centers and 84.133E Rehabilitation Engineering Research Centers Program)

Program Authority: 29 U.S.C. 762(g), 764(a), 764(b)(2), and 764(b)(3).

Dated: January 29, 2008.
Tracy Justesen,
Assistant Secretary for Special Education and Rehabilitative Services.

[FR Doc. E8-1901 Filed 1-31-08; 8:45 am]

BILLING CODE 4000-01-P